FEDERAL COMMUNICATIONS COMMISSION

Sunshine Act Meeting; Open Commission Meeting, Wednesday, September 10, 2003

September 3, 2003.

The Federal Communications Commission will hold an Open Meeting on the subjects listed below on Wednesday, September 10, 2003, which is scheduled to commence at 9:30 a.m. in Room TW-C305, at 445 12th Street, SW., Washington, DC.

Item No. | Bureau | Subject
1 | Wireless Tele-Communications | Title: Facilitating the Provision of Spectrum-Based Services to Rural Areas and Promoting Opportunities for Rural Telephone Companies to Provide Spectrum-Based Services (WT Docket No. 02-381); 2000 Biennial Regulatory Review Spectrum Aggregation Limits for Commercial Mobile Radio Services (WT Docket No. 01-14); and Increasing Flexibility to Promote Access to and the Efficient and Intensive Use of Spectrum and the Widespread Deployment of Wireless Services, and to Facilitate Capital Formation.
|  | Summary: The Commission will consider a Notice of Proposed Rulemaking to examine ways of amending spectrum regulations and policies in order to promote the rapid and efficient deployment of quality spectrum-based services in rural areas.
2 | Office of Engineering and Technology | Title: Modification of parts 2 and 15 of the Commission's Rules for unlicensed devices and equipment approval.
|  | Summary: The Commission will consider a Notice of Proposed Rulemaking concerning modifications to parts 2 and 15 of the rules to provide flexibility in the design and authorization of unlicensed devices.
3 | International | The International Bureau will report on the first in a series of annual reports on the commercial satellite industry.
4 | Wireless Tele-Communications | The Wireless Telecommunications Bureau and the National Coordination Committee (NCC) Chair will report on the Committee's recommendations for interoperable public safety use of the 700 MHz band.
5 | Wireline Competition | Title: Section 10(d) Limitation on Forbearance from sections 251(c) and 271.
|  | Summary: The Commission will consider a Notice of Proposed Rulemaking seeking comment on the conditions under which sections 251(c) and 271 of the Communications Act of 1934, as amended, should be deemed to be “fully implemented” under section 10(d) of the Act.
6 | Wireline Competition | Title: Review of the Commission's Rules Regarding the Pricing of Unbundled Network Elements and the Resale of Service by Incumbent Local Exchange Carriers.
|  | Summary: The Commission will consider a Notice of Proposed Rulemaking to review the Commission's cost-based pricing rules for unbundled network elements.
7 | Media | Title: Implementation of section 304 of the Telecommunications Act of 1996 (CS Docket No. 97-80); Commercial Availability of Navigation Devices; and Compatibility Between Cable Systems and Consumer Electronics Equipment (PP Docket No. 00-67).
|  | Summary: The Commission will consider a Second Report and Order regarding regulations to facilitate the connection of customer premises equipment purchased from retail outlets to multichannel video programming distibutor systems.

Additional information concerning this meeting may be obtained from Audrey Spivack or David Fiske, Office of Media Relations, (202) 418-0500; TTY 1-888-835-5322.

Audio/Video coverage of the meeting will be broadcast live over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu. Audio and video tapes of this meeting can be purchased from CACI Productions, 341 Victory Drive, Herndon, VA 20170, (703) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Federal Communications Commission.
Marlene H. Dortch,
Secretary.

[FR Doc. 03-22965 Filed 9-4-03; 3:12 pm]

BILLING CODE 6712-01-P